DEPARTMENT OF TRANSPORTATION

Federal Aviation Administration

14 CFR Part 71

[Docket No. FAA-2004-17145; Airspace Docket No. 04-ACE-19]

RIN 2120-AA66

Modification of Class C Airspace, Des Moines International Airport, Des Moines; IA

AGENCY: Federal Aviation Administration (FAA), DOT.

ACTION: Final rule.

SUMMARY: This action revises the legal description for the Class C airspace area at the Des Moines International Airport (DSM), Des Moines, IA. The FAA is taking this action due to a change in the location of the airport reference point (ARP) for DSM. This action only revises the legal description of the DSM Class C airspace area and does not change the dimensions of the area.

Effective Date: 0901 UTC, June 10, 2004.

FOR FURTHER INFORMATION CONTACT: Steve Rohring, Airspace and Rules, Office of System Operations and Safety, ATO-R, Federal Aviation Administration, 800 Independence Avenue, SW., Washington, DC 20591; telephone: (202) 267-8783.

SUPPLEMENTARY INFORMATION:

History

Effective June 10, 2004, all regulatory airspace associated with the DSM terminal area will reflect a change in the DSM ARP. The DSM ARP will change from lat. 41°32′06″ N., long. 93°39′39″ W., to lat. 41°32′03″ N., long. 93°39′45″ W. This change results in a six second (approximately 360-foot) change in location. Because the DSM Class C Airspace area is based on the DSM ARP, the FAA is taking this action to revise the legal description of the DSM Class C airspace.

Since this action only changes the DSM ARP and does not involve a change in the dimensions or operational requirements of that airspace, notice and public procedure under 5 U.S.C. 553(b) are unnecessary.

The Rule

This action amends Title 14 Code of Federal Regulations (14 CFR) part 71 (part 71) by revising the DSM Class C airspace area. The FAA is taking this action as a result of the change in location of the DSM ARP.

Class C airspace designations are published in paragraph 4000 of FAA Order 7400.9L, dated September 2, 2003 and effective September 16, 2003, which is incorporated by reference in 14 CFR 71.1. The Class C airspace designation listed in this document would be published subsequently in the order.

The FAA has determined that this regulation only involves an established body of technical regulations for which frequent and routine amendments are necessary to keep them operationally current. Therefore, this proposed action: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.ID, Policies and Procedures for Considering Environmental Impacts. This airspace action is not expected to cause any potentially significant environmental impacts, and no extraordinary circumstances exist that warrant preparation of an environmental assessment.

International Trade Impact Assessment

This final rule is a domestic airspace rulemaking and will not constitute a barrier to international trade, including the export of U.S. goods and services to foreign countries or the import of foreign goods and services into the United States.

Unfunded Mandates Assessment

Title II of the Unfunded Mandates Reform Act of 1995 (the Act), enacted as Public Law 104-4 on March 22, 1995, requires each Federal agency, to the extent permitted by law, to prepare a written assessment of the effects of any Federal mandate in a proposed or final agency rule that may result in the expenditure of $100 million or more (when adjusted annually for inflation) in any one year by state, local, and tribal governments in the aggregate, or by the private sector. Section 204(a) of the Act, 2 U.S.C. 1534(a), requires the Federal agency to develop an effective process to permit timely input by elected officers (or their designees) of State, local, and tribal governments on a proposed “significant intergovernmental mandate.” A “significant intergovernmental mandate” under the Act is any provision in a Federal agency regulation that would impose an enforceable duty upon state, local, and tribal governments in the aggregate of $100 million (adjusted annually for inflation) in any one year. Section 203 of the Act, 2 U.S.C. 1533, which supplements section 204(a), provides that, before establishing any regulatory requirements that might significantly or uniquely affect small governments, the agency shall have developed a plan, which, among other things, must provide for notice to potentially affected small governments, if any, and for a meaningful and timely opportunity for those small governments to provide input in the development of regulatory proposals.

This final rule does not contain any Federal intergovernmental or private sector mandates. Therefore, the requirements of Title II of the Unfunded Mandates Reform Act of 1995 do not apply.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9L, Airspace Designations and Reporting Points, dated September 2, 2003, and effective September 16, 2003, is amended as follows:

Paragraph 4000 Subpart C—Class C Airspace

* * * * *

ACE IA C Des Moines International Airport, IA [Revised]

Des Moines International Airport

(Lat. 41°32′03″ N., long. 93°39′45″ W.)

That airspace extending upward from the surface to and including 5,000 feet MSL within a 5-mile radius of the Des Moines International Airport, and that airspace extending upward from 2,200 feet MSL to and including 5,000 feet MSL within a 10-mile radius of the Des Moines International Airport.

* * * * *

Issued in Washington, DC, on April 12, 2004.
Reginald C. Matthews,
Manager, Airspace and Rules.

[FR Doc. 04-8810 Filed 4-16-04; 8:45 am]

BILLING CODE 4910-13-P